DEPARTMENT OF TRANSPORTATION

Research and Special Programs Administration

[Cooperative Agreement DTRS656-00-H-0004]

Quarterly Performance Review Meeting on the Cooperative Agreement “Better Understanding of Mechanical Damage in Pipelines”

AGENCY: Research and Special Programs Administration (RSPA), DOT.

ACTION: Notice of meeting.

SUMMARY: RSPA has entered into a cooperative agreement with the Gas Research Institute (GRI) to co-fund a two year research program to identify and characterizing mechanical damage, the leading cause of reportable accidents in both gas and hazardous liquid pipelines, using the technology of magnetic flux leakage (MFL) oriented in the circumferential direction on an in-line inspection tool. RSPA along with GRI invite the pipeline industry, in-line inspection (“smart pig”) vendors, and the general public to a quarterly performance review meeting hosted by RSPA to report on progress with the research “Better Understanding of Mechanical Damage in Pipelines.” The meeting is open to anyone, and no registration is required. This work is being managed by GRI and performed by Battelle Memorial Institute (Battelle), along with the Southwest Research Institute (SwRI). The meeting will cover a review of the overall project plan, the status of the contract tasks, progress made during the past quarter, and projected activity for the next quarter.

DATES: The quarterly performance review meeting will be held on Thursday, December 7, 2000 beginning at 9 a.m. and ending around 1 p.m.

ADDRESSES: The quarterly review meeting will be held in room 6244 of the Department of Transportation Headquarters Building, 400 7th Street, SW., Washington, DC. Non-federal personnel must enter the building through the southwest entrance at 7th and E Streets, SW., in order to receive a temporary building pass.

FOR FURTHER INFORMATION CONTACT: Lloyd W. Ulrich, Agreement Officer's Technical Representative, Office of Pipeline Safety, telephone: (202) 366-4556, FAX: (202) 366-4566, e-mail: lloyd.ulrich@rspa.dot.gov. You may also contact Harvey Haines, Principal Investigator, GRI, telephone: (773) 399-8223, FAX: (773) 864-3495, e-mail: harvey.haines@gastechnology.org.

SUPPLEMENTARY INFORMATION:

I. Background

RSPA has entered into a Cooperative Agreement (Cooperative Agreement DTRS656-00-H-0004) with the Gas Research Institute (GRI) to co-fund a two year research program to identify and characterizing mechanical damage, the leading cause of reportable accidents in both gas and hazardous liquid pipelines, using the technology of magnetic flux leakage (MFL) oriented in the circumferential direction on an in-line inspection tool.

We plan to conduct public semi-annual quarterly performance review meetings for the duration of this research. This meeting is the first semi-annual one to be conducted to update the public and interested governmental parties on the research, such as pipeline operators, vendors, RSPA technical and regional staff and the National Transportation Safety Board. Semi-annual meetings in the future will be held in conjunction with industry meetings, such as the American Petroleum Institute Pipeline Conference, in order to reach a broad audience. We want the pipeline industry and especially that segment of the pipeline industry involved with in-line inspection to be aware of the status of this research. The meetings allow disclosure of the results to interested parties and provide an opportunity for interested parties to ask questions concerning the research. Attendance at this meeting is open to all and does not require advanced registration nor advanced notification to RSPA. Each of the semi-annual meetings will be announced in the Federal Register at least two weeks prior to the meeting.

The quarterly performance review meetings held between the semi-annual meetings described above will be held in conjunction with meetings of the joint GRI/PRCI Technical Committee.

II. The Research

This research continues work that DOT supported at Battelle to improve In-Line Inspection NDE measurements of mechanical damage and more closely coordinates work that GRI is supporting at SwRI to develop a critical assessment criteria based on these NDE measurements. This program extends the work conducted under the DOT-funded contract “Detection of Mechanical Damage in Pipelines” (Contract DTRS-56-96-C-0010) ¹ by looking at the circumferential magnetic flux leakage field instead of the traditional axial field and extends the critical assessment criteria research to work with full scale samples that are being used for MFL measurements. The goal of the research is to evaluate and develop techniques for assessing pipeline metal loss, mechanical damage, and cracks using circumferential MFL. These techniques are expected to complement the techniques used for axial MFL systems.

¹ The final report on this research dated June 2000 is available on the OPS web site, http://ops.dot.gov.

The research will extend the failure assessment methodology for mechanically damaged pipes to include the influence of local cold working due to the gouging/denting process on the pipe's remaining life. The program will combine full scale tests and MFL monitoring of pipes, laboratory tests and elastic-plastic finite element analyses to develop a validated methodology for determining the remaining life of a damaged pipe. The proposed SwRI research will complement the work at Battelle in developing MFL methods for detecting and characterizing mechanical damage.

III. Agenda for the Meeting

The following is the agenda for the meeting:

“Overview of DOT/GRI project for finding and characterizing in-line inspection for mechanical damage”—Lloyd Ulrich-DOT (15 min)

“Project History and Impact of the In-Line Inspection for Mechanical Damage.”—Harvey Haines-GRI (15 min)

“Defect Manufacture and installation”—Tom Bubenik-Battelle (30 min)

“Circumferential Magnetizer design and construction”—Bruce Nestleroth-Battelle (30 min)

Break

“Non-Linear Harmonics Measurement and test set-up”—Al Crouch-SwRI (30 min)

“Burst test Setup”—Al Crouch-SwRI (10 min)

“Tool Development for Implementation in Actual Pipelines”—Carl Torres-Tuboscope (30 min)

“Wrap up and comments”—Ulrich & Haines (10-15 min)

Issued in Washington, DC on November 20, 2000.
Jeffrey D. Wiese,
Manager, Program Development, Office of Pipeline Safety.

[FR Doc. 00-30053 Filed 11-24-00; 8:45 am]

BILLING CODE 4910-60-P